DEPARTMENT OF TRANSPORTATION

Federal Aviation Administration

[Docket No. 2020-0409]

Agency Information Collection Activities: Requests for Comments; Clearance of a Renewed Approval of Information Collection: Commercial Air Tour Operator Reports

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on May 8, 2020. The collection involves information from commercial air tour operators on the numbers and types of air tours over national park units. The information to be collected will be used by the FAA and the National Park Service to track air tour operations over national parks and as background information in the development of air tour management plans and voluntary agreements for purposes of addressing any potential significant impacts from commercial air tour operations on the natural or cultural resources or visitor experience at the parks.

DATES: Written comments should be submitted by January 19, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Keith Lusk by email at: Keith.Lusk@faa.gov; phone: 424-405-7017

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0750.

Title: Commercial Air Tour Operator Reports.

Form Numbers: There are no FAA forms associated with this collection of information.

Type of Review: Renewal of an information collection.

Background: The Federal Register Notice with a 60-day comment period soliciting comments on the following collection of information was published on May 8, 2020 (85 FR 27506). The FAA Modernization and Reform Act of 2012 included amendments to the National Parks Air Tour Management Act (NPATMA) of 2000, which applies to commercial air tour operators who conduct tours over or within a half mile of a national park unit. One of these amendments requires commercial air tour operators conducting tours over national park units to provide the FAA and National Park Service with certain information on these operations. The information collected includes the date and time of day of the tour operation, the make and model of aircraft the tour was taken in, and the name of tour route flown. The information allows the agencies to track air tour activity over national park units and provides background information that the agencies can utilize when developing an air tour management plan or voluntary agreement for a national park unit. Respondents are the commercial air tour operators currently authorized to conduct tours over national parks. Operators provide the information on a reporting template and either email it or mail it in to the agencies.

Respondents: 48 commercial air tour operators nationwide.

Frequency: Information is collected semi-annually (twice a year), or annually for park units with 50 or fewer tours per year.

Estimated Average Burden per Response: 11.83 hours.

Estimated Total Annual Burden: 1,136 hours.

Issued in El Segundo, CA, on December 15, 2020.
Keith Lusk,
Program Manager,Special Programs Office, FAA Western-Pacific Region.

[FR Doc. 2020-27940 Filed 12-17-20; 8:45 am]

BILLING CODE 4910-13-P